DEPARTMENT OF DEFENSE

Department of the Air Force

Privacy Act of 1974; System of Records

AGENCY: Department of the Air Force, DoD.

ACTION: Notice to Amend a System of Records.

SUMMARY: The Department of the Air Force is amending a system of records notice in its existing inventory of record systems subject to the Privacy Act of 1974, (5 U.S.C. 552a), as amended.

The amendment being made is to alert the users of this system of records of the additional requirements of the Health Insurance Portability and Accountability Act (HIPAA) of 1996, as implemented by DoD 6025.18-R, DoD Health Information Privacy Regulation. Language being added under the ‘Routine Use’ category is as follows:

Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

DATES: This proposed action will be effective without further notice on March 8, 2004 unless comments are received which result in a contrary determination.

ADDRESSES: Send comments to the Air Force Privacy Act Manager, Office of the Chief Information Officer, AF-CIO/P, 1155 Air Force Pentagon, Washington, DC 20330-1155.

FOR FURTHER INFORMATION CONTACT: Mrs. Anne Rollins at (703) 601-4043.

SUPPLEMENTARY INFORMATION: The Department of the Air Force systems of records notices subject to the Privacy Act of 1974, (5 U.S.C. 552a), as amended, have been published in the Federal Register and are available from the address above.

The specific changes to the records systems being amended are set forth below followed by the notices, as amended, published in their entirety. The proposed amendments are not within the purview of subsection (r) of the Privacy Act of 1974, (5 U.S.C. 552a), as amended, which requires the submission of a new or altered system report.

Dated: January 30, 2004.
Patricia L. Toppings,
Alternate OSD Federal Register Liaison Officer, Department of Defense.

F044 AFSG G

System name:

Aircrew Standards Case File (June 11, 1997, 62 FR 31793).

Changes:

* * * * *

System name:

Delete entry and replace with ‘Aeromedical Information and Waiver Tracking System (AIMWTS)’.

* * * * *

Purpose(s):

Add to entry ‘transmit medical informaiton for waiver consideration, track waiver dispositions,’.

Routine uses of records maintained in the system, including categories of users and the purposes of such uses:

Add a new paragraph to the end of the entry Note: This system of records contains individually identifiable health information. The DoD Health Information Privacy Regulation (DoD 6025.18-R) issued pursuant to the Health Insurance Portability and Accountability Act of 1996, applies to most such health information. DoD 6025.18-R may place additional procedural requirements on the uses and disclosures of such information beyond those found in the Privacy Act of 1974 or mentioned in this system of records notice.

* * * * *

Storage:

Delete entry and replace with ‘Maintained in file folders and web-based database.’

Retrievability:

Add to entry ‘or Social Security Number.’

* * * * *

F044 AFSG G

System name:

Aeromedical Information and Waiver Tracking System (AIMWTS).

System location:

Air Force Medical Support Agency (AFMSA/SGPA), 110 Luke Avenue, Room 405, Bolling Air Force Base, DC 20332-7050.

Categories of individuals covered by the system:

This record system is maintained on all Air Force members who have been considered for medical waiver for flying duty due to conditions defined as serious illness or for waiver for flying training.

Categories of records in the system:

The record system contains members' Report of Medical Examination, Report of Medical History, Narrative Summary, Aeromedical Evaluation, Electrocardiographic Record, Clinical Record Consultation Sheet, and USAF School of Aerospace Medicine Evaluation Report (if accomplished).

Authority for maintenance of the system:

10 U.S.C. 8013, Secretary of the Air Force and Air Force Instruction 48-123, Medical Examination and Medical Standards.

Purpose(s):

Used to transmit medical information for waiver consideration, track waiver dispositions, determine if a previous action has been taken, if a precedent exists for granting a waiver for a specific medical condition, and to provide a scientific basis to justify and improve waiver policies.

Routine uses of records maintained in the system, including categories of users and the purposes of such uses:

In addition to those disclosures generally permitted under 5 U.S.C. 552a(6) of the Privacy Act, these records or information contained therein may specifically be disclosed outside the DoD as a routine use pursuant to 5 U.S.C. 552a(b)(3) as follows:

The DoD ‘Blanket Routine Uses’ published at the beginning of the Air Force's compilation of systems of records notices apply to this system.

Note: This system of records contains individually identifiable health information. The DoD Health Information Privacy Regulation (DoD 6025.18-R) issued pursuant to the Health Insurance Portability and Accountability Act of 1996, aplies to most such health information. DoD 6025.18-R may place additional procedural requirements on the uses and disclosures of such information beyond those found in the Privacy Act of 1974 or mentioned in this system of records notice.

Policies and practices for storing, retrieving, accessing, retaining, and disposing of records in the system:

Storage:

Maintained in file folders and web-based database.

Retrievability:

Retrieved by name or Social Security Number.

Safeguards:

Records are accessed by custodian of the record system and by persons responsible for servicing the record system in performance of their official duties.

Retention and disposal:

Retained in office files until superseded, obsolete, no longer needed for reference, or on inactivation, then destroyed by tearing into pieces, shredding, pulping, macerating, or burning.

System manager(s) and address:

Chief, Physical Standards, Air Force Medical Support Agency (AFMSA/SGPA), 110 Luke Avenue, Room 405, Bolling Air Force Base, DC 20332-7050.

Notification procedure:

Individuals seeking to determine whether information about themselves is contained in this system should address written inquiries to their MAJCOM Flight Surgeon's Office.

Record access procedures:

Individuals seeking access to information about themselves contained in this system should address written inquiries to their MAJCOM Flight Surgeon's Office.

Contesting record procedures:

The Air Force rules for accessing records, and for contesting contents and appealing initial agency determinations are published in Air Force Instruction 33-332; 32 CFR part 806b; or may be obtained from the system manager.

Record source categories:

Information obtained from medical institutions.

Exemptions claimed for the system:

None.

[FR Doc. 04-2542 Filed 2-5-04; 8:45 am]

BILLING CODE 5001-06-M